DEPARTMENT OF TRANSPORTATION

Federal Aviation Administration

14 CFR Part 39

[Docket No. FAA-2022-1483; Project Identifier MCAI-2022-00435-T; Amendment 39-22522; AD 2023-16-03]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by a report from the supplier of a manufacturing quality escape in which some sensing elements were manufactured with insufficient salt fill. This could result in an inability to detect hot bleed air leaks. This AD requires, depending on airplane serial number, reviewing the airplane maintenance records for affected bleed leak detection system sensing elements, testing the sensing elements, replacing those that fail, and witness marking those that pass, as specified in a Transport Canada AD, which is incorporated by reference. This AD also prohibits the installation of affected parts under certain conditions. The FAA is issuing this AD to address the unsafe condition on these products.

DATES: This AD is effective September 25, 2023.

The Director of the Federal Register approved the incorporation by reference of certain publications listed in this AD as of September 25, 2023.

ADDRESSES:

AD Docket: You may examine the AD docket at regulations.gov under Docket No. FAA-2022-1483; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material incorporated by reference in this AD, contact Transport Canada, Transport Canada National Aircraft Certification, 159 Cleopatra Drive, Nepean, Ontario K1A 0N5, Canada; telephone 888-663-3639; email TC.AirworthinessDirectives-Consignesdenavigabilite.TC@tc.gc.ca You may find this material on the Transport Canada website at tc.canada.ca/en/aviation.

• For Kidde Aerospace & Defense service information incorporated by reference in this AD, contact Kidde Aerospace & Defense, 4200 Airport Drive NW, Building B, Wilson, NC 27896; telephone: 319-295-5000; website: kiddetechnologies.com/aviation.com.

• You may view this material at the FAA, Airworthiness Products Section, Operational Safety Branch, 2200 South 216th St., Des Moines, WA. For information on the availability of this material at the FAA, call 206-231-3195. It is also available in the AD docket at regulations.gov under Docket No. MCAI-2022-00435-T.

FOR FURTHER INFORMATION CONTACT: Thomas Niczky, Aviation Safety Engineer, FAA, 1600 Stewart Avenue, Suite 410, Westbury, NY 11590; telephone: 516-228-7347; email: 9-avs-nyaco-cos@faa.gov.

SUPPLEMENTARY INFORMATION:

Background

The FAA issued a notice of proposed rulemaking (NPRM) to amend 14 CFR part 39 by adding an AD that would apply to certain Airbus Canada Limited Partnership Model BD-500-1A10 and BD-500-1A11 airplanes. The NPRM published in the Federal Register on November 25, 2022 (87 FR 72416). The NPRM was prompted by CF-2022-13, dated March 28, 2022, issued by Transport Canada, which is the aviation authority for Canada (Transport Canada AD CF-2022-13). The MCAI states that Airbus Canada Limited Partnership received disclosure letters from the supplier that reported a manufacturing quality escape in which some of the overheat detection sensing elements were manufactured with insufficient salt fill. These sensing elements are used by the bleed air leak detection system for temperature detection in the event of a hot bleed air leak. Insufficient salt fill can result in an inability to detect hot bleed air leaks, which can cause damage to surrounding structures and systems that could prevent continued safe flight and landing.

In the NPRM, the FAA proposed to require, depending on airplane serial number, reviewing the airplane maintenance records for affected bleed leak detection system sensing elements, testing the sensing elements, replacing those that fail, and witness marking those that pass, as specified in Transport Canada AD CF-2022-13. The NPRM also proposed to prohibit the installation of affected parts under certain conditions. The FAA is issuing this AD to address the unsafe condition on these products.

Since the NPRM was issued, Transport Canada revised AD CF-2022-13 and issued Transport Canada AD CF-2022-13R1, dated April 18, 2023 (Transport Canada AD CF-2022-13R1) (also referred to as the MCAI). Transport Canada AD CF-2022-13R1 clarifies the definition of the affected part. Also, Airbus Canada Limited Partnership issued updated Service Bulletins BD500-362002 Issue 002, dated July 26, 2023, and BD500-362003 Issue 002, dated July 26, 2023. These updated service bulletins removed redundant steps and corrected that only failed sensing elements and not a failed loop needs to be replaced.

You may examine the MCAI in the AD docket at regulations.gov under Docket No. FAA-2022-1483.

Discussion of Final Airworthiness Directive

Comments

The FAA received comments from Air Line Pilots Association, International (ALPA), who supported the NPRM without change.

The FAA received additional comments from Delta Air Lines (Delta). The following presents the comments received on the NPRM and the FAA's response to each comment.

Request To Delay Final Rule

Delta requested that the FAA delay the final rule until a revised Transport Canada AD is issued. Delta stated the current definition of an “Affected Part” in Transport Canada AD CF-2022-13 does not provide a clear and concise method for compliance for operators to comply with the proposed AD. Delta stated that it wants to review the new Transport Canada AD and submit comments on a new NPRM.

The FAA agrees that the definition for “Affected Part” should be revised for clarity. As stated previously, Transport Canada has revised Transport Canada AD CF-2022-13 to update the definition for “Affected Part.” The FAA has revised this AD to refer to Transport Canada AD CF-2022-13R1. However, the FAA disagrees with the request to issue a supplemental NPRM. The FAA notes that the updated definition does not result in new requirements and therefore a supplemental NPRM is not necessary. In addition, the FAA has added paragraph (i) to this AD to provide credit for actions required by paragraph (g) of this AD, if those actions were performed before the effective date of this AD using Transport Canada AD CF-2022-13.

Request To Add Exception To Refer to Affected Parts

Delta requested that the FAA add an exception to paragraph (h) of the proposed AD to specify that where paragraphs a. and b. of Part III. of Transport Canada AD CF-2022-13 specify to “test the sensing elements,” replace that text with “test affected parts.” Delta stated that the safety concern is only applicable to an “Affected Part” as identified in Transport Canada AD CF-2022-13 and not all sensing elements on an airplane. Delta explained that as currently written, Transport Canada AD CF-2022-13 requires operators to test all sensing elements, regardless of if they are an “affected part” or not. Delta stated that specifying “affected part” will allow operators to initially inspect each sensing element, determine if it is an “affected part”, and test (apply corrective actions) only those affected parts; thereby minimizing labor hours.

The FAA agrees the language in paragraphs a. and b. of Part III of Transport Canada AD CF-2022-13 should be revised to specify the “affected part” as defined in Transport Canada AD CF-2022-13. Transport Canada has updated paragraphs a. and b. of Part III of Transport Canada AD CF-2022-13R1 to refer to the affected parts. As stated previously, this AD now refers to Transport Canada AD CF-2022-13R1. Paragraphs a. and b. of Part III of Transport Canada AD CF-2022-13R1 now narrow the scope to testing of only affected parts. Therefore, an exception to Transport Canada AD CF-2022-13R1 is not needed in this AD.

Request To Add an Exception for Replacing Parts

Delta requested that the FAA add an exception to paragraph (h) of the proposed AD to change the replacement parts. Delta stated that where Appendix A through Appendix J of Airbus Canada Limited Partnership Service Bulletin BD500-362002 Issue 001, dated February 18, 2022; and Appendix A through Appendix C of Airbus Canada Limited Partnership Service Bulletin BD500-362003 Issue 001, dated February 18, 2022, specify “remove and replace any failed loop,” replace with “remove and replace any failed sensing element.” Delta stated that, as written, the appendices specifies that if a sensing element fails, then the entire loop is to be removed and replaced under the Required for Compliance (RC) procedure. Delta stated Airbus Canada specified that more than one sensing element can be within a single loop and that only sensing elements that fail the test need to be replaced. Delta concluded that the recommended exception will provide more clarity on what parts need to be removed and replaced to address the safety concern.

The FAA agrees that the affected parts are sensing elements and if a sensing element fails, only that sensing element must be replaced as specified in paragraphs a. and b. of Part III, Transport Canada AD CF-2022-13R1. The FAA has added an exception in paragraph (h)(5) of this AD to state that where the appendixes of Issue 001 of the service information referenced in “First SB” and “Second SB” of Transport Canada AD CF-2022-13R1 specify steps to remove and replace any failed loop, this AD requires replacing only any failed sensing element. In addition, Airbus Canada Limited Partnership Service Bulletins BD500-362002 Issue 002, dated July 26, 2023, and BD500-362003 Issue 002, dated July 26, 2023, removed the statements “remove and replace any failed loop” and now specify only replacing a failed sensing element. As defined in “First SB” and “Second SB” of Transport Canada AD CF-2022-13R1, later revisions of the service information are allowed for compliance, which includes Airbus Canada Limited Partnership Service Bulletins BD500-362002 Issue 002, dated July 26, 2023, and BD500-362003 Issue 002, dated July 26, 2023.

Request To Add Exception To Exclude Redundant Marking

Delta requested that the FAA add an exception to paragraph (h) of the proposed AD to exclude redundant steps for adding “witness marks.” Delta listed multiple steps for adding “witness marks” within the parts in the procedures of Airbus Canada Limited Partnership Service Bulletin BD500-362002 Issue 001, dated February 18, 2022; and Airbus Canada Limited Partnership Service Bulletin BD500-362003 Issue 001, dated February 18, 2022. Delta stated those steps are redundant to a step for adding “witness marks” in the appendixes of Airbus Canada Limited Partnership Service Bulletin BD500-362002 Issue 001, dated February 18, 2022; and Airbus Canada Limited Partnership Service Bulletin BD500-362003 Issue 001, dated February 18, 2022. Delta stated that following completion of an appendix, the associated part procedure is done. Delta stated both steps cannot be deviated from because both are within the RC procedure section of the service information. Delta stated that Airbus Canada confirmed that the marking of sensing elements only needs to be done once.

The FAA agrees that the steps for adding “witness marks” within the procedures parts in the Accomplishment Instructions are redundant with the steps in the appendices of Airbus Canada Limited Partnership Service Bulletin BD500-362002 Issue 001, dated February 18, 2022; and Airbus Canada Limited Partnership Service Bulletin BD500-362003 Issue 001, dated February 18, 2022. The FAA agrees that redundant steps are not required to be performed. Airbus Canada Limited Partnership Service Bulletins BD500-362002 Issue 002, dated July 26, 2023, and BD500-362003 Issue 002, dated July 26, 2023, removed the redundant marking steps from the appendices. The FAA has added an exception to paragraph (h)(6) of this AD to clarify that adding “witness marks” is only done once when using Issue 001 of the service information referenced in “First SB” and “Second SB” of Transport Canada AD CF-2022-13R1. Paragraph (h)(6) of this AD also clarifies that replacing an affected part if a test is unsatisfactory is only done once, which addresses the following comment about additional redundant steps.

Request To Add Exception To Exclude Redundant Replacements

Delta requested that the FAA add an exception to paragraph (h) of the proposed AD to exclude redundant replacement steps. Delta listed multiple steps to remove the sensing element if the test is unsatisfactory and install a new sensing element within the procedures of the parts of Airbus Canada Limited Partnership Service Bulletin BD500-362002 Issue 001, dated February 18, 2022; and Airbus Canada Limited Partnership Service Bulletin BD500-362003 Issue 001, dated February 18, 2022. Delta stated those steps are redundant to steps to “replace a failed sensing element” as well as steps to “replace a failed loop” (which Delta noted it has asked to be revised to “replace any failed sensing element” in its previous comment) in the appendixes of Airbus Canada Limited Partnership Service Bulletin BD500-362002 Issue 001, dated February 18, 2022; and Airbus Canada Limited Partnership Service Bulletin BD500-362003 Issue 001, dated February 18, 2022. Delta stated that following completion of an appendix, the associated part procedure is done. Delta stated both steps cannot be deviated from because both are within the RC procedure section of the service information. Delta stated that Airbus Canada confirmed that the replacement of failed sensing elements only needs to be done once.

The FAA agrees that the steps to remove the sensing element if the test is unsatisfactory and install a new sensing element that are within the procedures of the parts of the Accomplishment Instructions are redundant with the steps in the appendices of Airbus Canada Limited Partnership Service Bulletin BD500-362002 Issue 001, dated February 18, 2022; and Airbus Canada Limited Partnership Service Bulletin BD500-362003 Issue 001, dated February 18, 2022. The FAA agrees that redundant steps are not required to be performed. Airbus Canada Limited Partnership Service Bulletins BD500-362002 Issue 002, dated July 26, 2023, and BD500-362003 Issue 002, dated July 26, 2023, removed the redundant replacement steps from the appendices. As stated previously, the FAA has added an exception to paragraph (h)(6) of this AD to clarify that replacing affected parts is only done once when using Issue 001 of the service information referenced in “First SB” and “Second SB” of Transport Canada AD CF-2022-13R1.

Change to Paragraph (h)(4) of the Proposed AD

The exception in paragraph (h)(4) of the proposed AD to the parts installation prohibition specified in Transport Canada AD CF-2022-13 referred to “ACLP SB BD500-362002 Issue 001, dated February 18, 2022” and “ACLP SB BD500-362003 Issue 001, dated February 18, 2022” for the prohibited sensing elements. The FAA has revised paragraph (h)(4) of this AD to specify prohibited sensing elements are identified in either Issue 001 or Issue 002 of the service information, i.e., “ACLP SB BD500-362002 Issue 001, dated February 18, 2022, or Issue 002, dated July 26, 2023” and “ACLP SB BD500-362003 Issue 001, dated February 18, 2022, or Issue 002, dated July 26, 2023.”

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

Transport Canada AD CF-2022-13R1 specifies procedures for, depending on airplane serial number, reviewing the airplane maintenance records for affected bleed leak detection system sensing elements, testing the sensing elements, replacing those that fail, and witness marking those that pass. Transport Canada AD CF-2022-13R1 also prohibits the installation of any affected parts unless it is a serviceable part.

Kidde Aerospace & Defense Service Bulletin CFD-26-1, Revision 6, dated February 28, 2022, specifies affected continuous fire detector (CFD) part numbers and testing procedures.

This material is reasonably available because the interested parties have access to it through their normal course of business or by the means identified in the ADDRESSES section.

Costs of Compliance

The FAA estimates that this AD affects 69 airplanes of U.S. registry. The FAA estimates the following costs to comply with this AD:

Estimated Costs for Required Actions
Labor cost | Parts cost | Cost per product | Cost on U.S. operators
Up to 125 work-hours × $85 per hour = $10,625 (for Group A, 52 airplanes) | $0 | Up to $10,625 | Up to $552,500.
Up to 1 work-hour × $85 per hour = $85 (for Group B, 17 airplanes) | $0 | Up to $85 | Up to $1,445.

The FAA estimates the following costs to do any necessary on-condition actions that would be required based on the results of any required actions. The FAA has no way of determining the number of aircraft that might need these on-condition actions:

Estimated Costs of On-Condition Actions
Labor cost | Parts cost | Cost per product
Up to 58 work-hours × $85 per hour = $4,930 (for Group A airplanes) | Up to $101,045 | Up to $105,975.
Up to 183 work-hours × $85 per hour = $15,555 (for Group B airplanes) | Up to $101,045 | Up to $116,600.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-16-03 Airbus Canada Limited Partnership (Type Certificate Previously Held by C Series Aircraft Limited Partnership (CSALP); Bombardier, Inc.): Amendment 39-22522; Docket No. FAA-2022-1483; Project Identifier MCAI-2022-00435-T.

(a) Effective Date

This airworthiness directive (AD) is effective September 25, 2023.

(b) Affected ADs

None.

(c) Applicability

This AD applies to Airbus Canada Limited Partnership Model BD-500-1A10 and BD-500-1A11 airplanes, certificated in any category, as identified in Transport Canada AD CF-2022-13R1, dated April 18, 2023 (Transport Canada AD CF-2022-13R1).

(d) Subject

Air Transport Association (ATA) of America Code 36, Pneumatic.

(e) Unsafe Condition

This AD was prompted by a report from the supplier of overheat detection sensing elements that there was a manufacturing quality escape in which some sensing elements were manufactured with insufficient salt fill. The FAA is issuing this AD to address insufficient salt fill of the overheat detection sensing elements. The unsafe condition, if not addressed, could result in an inability to detect hot bleed air leaks, which can cause damage to surrounding structures and systems that could prevent continued safe flight and landing.

(f) Compliance

Comply with this AD within the compliance times specified, unless already done.

(g) Requirements

Except as specified in paragraph (h) of this AD: Comply with all required actions and compliance times specified in, and in accordance with Transport Canada AD CF-2022-13R1.

(h) Exception to Transport Canada AD CF-2022-13R1

(1) Where Transport Canada AD CF-2022-13R1 refers to April 11, 2022 (the effective date of Transport Canada AD CF-2022-13, dated March 28, 2022), or to its effective date, this AD requires using the effective date of this AD.

(2) Where Transport Canada AD CF-2022-13R1 refers to hours air time, this AD requires using flight hours.

(3) Where Transport Canada AD CF-2022-13R1 defines “Affected part” and refers to part numbers in a certain service bulletin, for this AD, operators must use Kidde Aerospace & Defense Service Bulletin CFD-26-1, Revision 6, dated February 28, 2022, to determine the part number.

(4) Where “Part I” of Transport Canada AD CF-2022-13R1 specifies the parts installation prohibition for certain airplanes, replace the text “associated with Part A through Part J of the first SB or Part A through Part C of the second SB” with “associated with Part A through Part J of ACLP SB BD500-362002 Issue 001, dated February 18, 2022, or Issue 002, dated July 26, 2023; or Part A through Part C of ACLP SB BD500-362003 Issue 001, dated February 18, 2022, or Issue 002, dated July 26, 2023.”

(5) Where the appendixes of Issue 001 of the service information referenced in “First SB” and “Second SB” of Transport Canada AD CF-2022-13R1 specify steps to “remove and replace any failed loop,” this AD requires replacing only any failed sensing element as specified in Transport Canada AD CF-2022-13R1.

(6) Where the appendixes and the procedure sections of Issue 001 of the service information referenced in “First SB” and “Second SB” of Transport Canada AD CF-2022-13R1 specify redundant steps to remove and replace any failed loops or any failed sensing elements and steps to add “witness marks (dots),” this AD requires those steps be performed only once. Also, as stated in paragraph (h)(5) of this AD only the failed sensing element must be replaced and not a failed loop.

(i) Credit for Previous Actions

This paragraph provides credit for actions required by paragraph (g) of this AD, if those actions were performed before the effective date of this AD using Transport Canada AD CF-2022-13, dated March 28, 2022.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to ATTN: Program Manager, Continuing Operational Safety, FAA, International Validation Branch, 1600 Stewart Avenue, Suite 410, Westbury, NY 11590; telephone 516-228-7300. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Thomas Niczky, Aviation Safety Engineer, FAA, 1600 Stewart Avenue, Suite 410, Westbury, NY 11590; telephone: 516-228-7347; email: 9-avs-nyaco-cos@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2022-13R1, dated April 18, 2023.

(ii) Kidde Aerospace & Defense Service Bulletin CFD-26-1, Revision 6, dated February 28, 2022.

(3) For Transport Canada AD CF-2022-13R1, contact Transport Canada, Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website at tc.canada.ca/en/aviation.

(4) For Kidde Aerospace & Defense service information, contact Kidde Aerospace & Defense, 4200 Airport Drive NW, Building B, Wilson, NC 27896; telephone: 319-295-5000; website: kiddetechnologies.com/aviation.com.

(5) You may view this service information at the FAA, Airworthiness Products Section, Operational Safety Branch, 2200 South 216th St., Des Moines, WA. For information on the availability of this material at the FAA, call 206-231-3195.

(6) You may view this material that is incorporated by reference at the National Archives and Records Administration (NARA). For information on the availability of this material at NARA, email fr.inspection@nara.gov, or go to: www.archives.gov/federal-register/cfr/ibr-locations.html.

Issued on August 3, 2023.
Victor Wicklund,
Deputy Director, Compliance & Airworthiness Division, Aircraft Certification Service.

[FR Doc. 2023-17774 Filed 8-18-23; 8:45 am]

BILLING CODE 4910-13-P